DEPARTMENT OF LABOR

Employment and Training Administration

[TA-W-50,800]

Flexcel-Batesville, Batesville, Mississippi; Notice of Termination of Investigation

Pursuant to section 221 of the Trade Act of 1974, as amended, an investigation was initiated on February 6, 2003, in response to a petition filed by the company on behalf of workers of Flexcel-Batesville, Batesville, Mississippi. The workers produce metal furniture and automotive components.

The petitioner has requested that the petition be withdrawn. Consequently, the investigation has been terminated.

Signed in Washington, DC, this 5th day of May, 2003.
Elliott S. Kushner,
Certifying Officer, Division of Trade Adjustment Assistance.

[FR Doc. 03-12558 Filed 5-19-03; 8:45 am]

BILLING CODE 4510-30-P